DEPARTMENT OF AGRICULTURE

Submission for OMB Review; Comment Request

June 21, 2007.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Volunteer Application for Natural Resource Agencies.

OMB Control Number: 0596-0080.

Summary of Collection: The Volunteer Act of 1972, (Pub. L. 92-300) as amended, authorizes Federal land management agencies to use volunteers and volunteer organizations to plan, develop, maintain and manage, where appropriate, trails and campground facilities, improve wildlife habitat, and perform other useful and important conservation services throughout the Nation. Agencies will collect information using the OF 301—Volunteer Application and other forms.

Need and Use of the Information: Agencies will collect the names, addresses, and certain information about individuals who are interested in public service as volunteers. The information is used by the agencies for the purpose of contacting applicants and interviewing and screening them for volunteer positions and to manage the program. If the information is not collected, participating natural resource agencies will be unable to recruit and/or screen volunteer applicants or administer/run volunteer programs that are crucial to assisting these agencies in fulfilling their missions.

Description of Respondents: Individuals or households.

Number of Respondents: 400,000.

Frequency of Responses: Reporting: Other (one time).

Total Burden Hours: 500,000.

Forest Service

Title: Predecisional Objection Process for Hazardous Fuel Reduction Projects Authorized by the Healthy Forest Restoration Act of 2003.

OMB Control Number: 0596-0172.

Summary of Collection: On December 3, 2003, President Bush signed into law the Healthy Forests Restoration Act of 2003 to reduce the threat of destructive wildfires while upholding environmental standards and encouraging early public input during review and planning processes. One of the provisions of the Act, in Section 105 requires that not later than 30 days after the date of the enactment of this Act, the Secretary of Agriculture shall promulgate interim final regulations to establish a predecisional administrative review process. This process services as the sole means by which a person can seek administrative review regarding an authorized hazardous fuel reduction project on Forest Service (FS) land.

Need and Use of the Information: Participants in the predecisional administrative review process must provide information the FS needs to respond to their concern. This written information needs to include the objector's name, address, phone number; the name of the project; name and title of the Responsible Official, the project location; and sufficient narrative description of those parts of the project that are objected to; specific issues related to the proposed decision, and suggested remedies which would resolve the objection. The collected information will be used by the Reviewing Officer in responding to those who participate in the objection process prior to a decision by the Responsible Official. FS could not meet the intent of Congress without collecting this information.

Description of Respondents: Individuals or households; State, Local or Tribal Government; Not-for-profit institutions.

Number of Respondents: 121.

Frequency of Responses: Reporting: On occasion.

Total Burden Hours: 968.

Charlene Parker,
Departmental Information Collection Clearance Officer.

[FR Doc. E7-12385 Filed 6-26-07; 8:45 am]

BILLING CODE 3410-11-P